SECURITIES AND EXCHANGE COMMISSION

[Release No. 34-51540; File No. SR-CBOE-2005-21]

Self-Regulatory Organizations; Chicago Board Options Exchange, Inc.; Notice of Filing of Proposed Rule Change Relating to the Calculation of the National Best Bid or Offer When Another Exchange is Disconnected From the Intermarket Options Linkage

Correction

In notice document E5-1878 beginning on page 20780 in the issue of Thursday, April 21, 2005, make the following correction:

On page 20781, in the second column, under the heading Paper Comments, in the second paragraph, in the last line, “May 21, 2005” should read “May 12, 2005”.

[FR Doc. Z5-1878 Filed 5-2-05; 8:45 am]

BILLING CODE 1505-01-D